DEPARTMENT OF HOMELAND SECURITY

Agency Information Collection Activities: Proposed Collection; Comment Request; The Department of Homeland Security, Office of Emergency Communications, SAFECOM Nationwide Survey (SNS)

AGENCY: National Protection and Programs Directorate, DHS.

ACTION: 30-Day notice and request for comments; New Collection: 1670-NEW.

SUMMARY: The Department of Homeland Security (DHS), National Protection and Programs Directorate (NPPD), Office of Cybersecurity and Communications (CS&C), Office of Emergency Communications, will submit the following Information Collection Request (ICR) to the Office of Management and Budget (OMB) for review and clearance in accordance with the Paperwork Reduction Act of 1995. DHS previously published this ICR in the Federal Register for 60 days. The notice published as 60-Day Request for Comment on Thursday, April 27, 2017. DHS received comments from two stakeholders indicating an appreciation for public outreach. As a next step in the administrative process, a second notice will be published in the Federal Register. Its purpose is to allow an additional 30 days for the public to provide comments about the notice.

DATES: Comments are encouraged and will be accepted until September 5, 2017. DHS and OMB conducts this process in accordance with Controlling Paperwork Burdens on the Public rules and regulations. 5 CFR 1320.1 (1995).

ADDRESSES: Interested persons are invited to submit written comments on the proposed ICR to the Office of Information and Regulatory Affairs, Office of Management and Budget (OMB). Comments should be addressed to OMB Desk Officer, Department of Homeland Security and sent via electronic mail to oira_submission@omb.eop.gov or faxed to (202) 395-5806.

SUPPLEMENTARY INFORMATION: Enactment of 6 U.S.C. 571 governs the Office of Emergency Communications (OEC) and establishes a Director with specific responsibilities. This includes assisting the DHS Secretary in developing and implementing a program to support and promote the ability of emergency response providers and relevant government officials to continue to communicate in the event of natural disasters, acts of terrorism, and other man-made disasters; and ensure, accelerate, and attain interoperable emergency communications nationwide. In addition, 6 U.S.C. 573 authorizes the DHS Secretary acting through the OEC Director to conduct a baseline assessment of communications capabilities among emergency response providers and relevant government officials at all levels of government no less than once every five years. OEC is tasked with conducting a periodic nationwide assessment of emergency communications.

OEC's governing statute provides a framework for its periodic assessment. Accordingly, OEC, in coordination with its stakeholder partners, developed the SAFECOM Nationwide Survey (SNS). The survey's purpose is to gather information to assess capabilities currently available, and identify gaps based on the needs of emergency response providers. This information will allow OEC and its stakeholders to understand critical capabilities more clearly, and to target resources more efficiently for communications during response situations of all scales and scope, from day-to-day to out-of-the-ordinary situations.

To gather baseline assessment information, OEC will deploy four versions of the SAFECOM Nationwide Survey (SNS) tailored to address emergency response entities at each level of government: Federal, State and territorial, tribal, and local. Each SNS version is built upon a foundation of core planning elements identified by OEC and its stakeholders as fundamental to achieve open and secure communications operability, interoperability, and continuity. These elements are interdependent critical success factors that must be addressed to plan for and implement public safety communications capabilities. These elements are recognized as Governance, Standard Operating Procedures, Training and Exercises, Technology, Usage, Security and Equipment.

The SNS questions align with each of these elements. This design enables DHS to determine jurisdictional capability levels of operability, interoperability, and continuity as they collectively pertain to the use of emergency communications. For example, Governance questions will pertain to matters related to decision-making groups, agreements, funding, and strategic planning. Standard Operating Procedure questions will focus on procedures, guidelines, and content. Training and Exercise questions will focus on their nature, scope, and frequency. Technology questions will focus on infrastructure, solutions, and information-sharing. Usage questions will address frequency of use, proficiency, and resource capacity. Security will focus on cybersecurity in the context of emergency communications. Finally, Equipment questions focuses on the types of equipment or systems used. These SNS elements and sub-elements set forth the DHS OEC assessment framework. Collectively, will enable DHS OEC to fulfill its governing authority and identify a baseline of nationwide emergency communications capabilities.

This is a new information collection. OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and minimize the burden of the collection of information on those who are to respond, including through the use of appropriate automated, electronic, mechanical, or other technological collection techniques or other forms of information technology, e.g., permitting electronic submissions of responses.

Analysis

Agency: Department of Homeland Security, National Protection and Programs Directorate, Office of Cybersecurity and Communications, Office of Emergency Communications.

OMB Number: 1670-NEW.

Frequency: Once every five years.

Affected Public: Federal, State, local and private sector emergency response personnel.

Number of Respondents: 3,002 annually.

Estimated Time Per Respondent: 30 minutes.

Total Burden Hours: 1,501 annual burden hours.

Dated: July 28, 2017.
David Epperson,
Chief Information Officer.

[FR Doc. 2017-16388 Filed 8-3-17; 8:45 am]

BILLING CODE 9110-9P-P